DEPARTMENT OF AGRICULTURE

Animal and Plant Health Inspection Service

[Docket No. APHIS-2015-0063]

International Trade Data System Test Concerning the Electronic Submission to the Automated Commercial Environment of Data Using the Partner Government Agency Message Set

AGENCY: Animal and Plant Health Inspection Service, USDA.

ACTION: Notice.

SUMMARY: The Animal and Plant Health Inspection Service (APHIS), in coordination with U.S. Customs and Border Protection (CBP), has developed a pilot plan to test and assess the International Trade Data System for the electronic submission of data required by APHIS Animal Care, Biotechnology and Regulatory Services, Plant Protection and Quarantine, and Veterinary Services for processing in the Automated Commercial Environment (ACE). The pilot test will use the APHIS Partner Government Agency (PGA) Message Set and the Automated Broker Interface to transmit, and ACE to process, trade data required for the importation of plants, animals, and their products regulated by APHIS. Under this test, PGA Message Set data may be filed only at certain ports.

DATES: The test will commence no earlier than October 2, 2015, and will continue until concluded by publication of a notice ending the test. Participants should consult the PGA Pilot Rollout Plan, available at http://www.cbp.gov/document/guidance/list-aceitds-pga-message-set-pilot-ports, to determine which ports are operational and the date they become operational. Comments will be accepted through the duration of the test.

ADDRESSES: You may submit comments by the following methods:

• Federal eRulemaking Portal: Go to http://www.regulations.gov/#!docketDetail;D=APHIS-2015-0063.

• Postal Mail/Commercial Delivery: Send your comment to Docket No. APHIS-2015-0063, Regulatory Analysis and Development, PPD, APHIS, Station 3A-03.8, 4700 River Road Unit 118, Riverdale, MD 20737-1238.

• Email: Send your comment to Ms. Josephine Baiamonte, ACE Business Office, Office of International Trade, U.S. Customs and Border Protection, DHS, 1400 L Street, NW., 2nd floor, Washington, DC 20229-1225 at josephine.baiamonte@cbp.dhs.gov. In the subject line of the email, please indicate, “Comment on PGA Message Set Test FRN.”

FOR FURTHER INFORMATION CONTACT: For technical questions related to the Automated Commercial Environment or Automated Broker Interface transmissions, contact your assigned CBP client representative. Interested parties without an assigned client representative should direct their questions to Mr. Steven Zaccaro, U.S. Customs and Border Protection, DHS, 1400 L Street NW., 2nd floor, Washington, DC 20229-1225; steven.j.zaccaro@cbp.dhs.gov.

For PGA-related questions, contact Ms. Emi Wallace, U.S. Customs and Border Protection, DHS, 1400 L Street NW., 2nd floor, Washington, DC 20229-1225; emi.r.wallace@cbp.dhs.gov.

For APHIS Program-related questions, contact Ms. Cindy Walters, APHIS Liaison for Automated Commercial Environment, International Trade Data System, Management and Program Analyst, Quarantine Policy and Analysis Staff, PPQ, APHIS, 4700 River Road Unit 60, Riverdale, MD 20720; 301-851-2273; Cindy.L.Walters@aphis.usda.gov.

SUPPLEMENTARY INFORMATION:

Background

I. The National Customs Automation Program

The National Customs Automation Program (NCAP) was established in Subtitle B of Title VI—Customs Modernization, in the North American Free Trade Agreement Implementation Act (Pub. L. 103-182, 107 Stat. 2057, 2170, December 8, 1993; see 19 U.S.C. 1411). Through NCAP, the initial thrust of customs modernization was on trade compliance and the development of the Automated Commercial Environment (ACE), the planned successor to the Automated Commercial System (ACS). ACE is an automated and electronic system for commercial trade processing intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions.

CBP's modernization efforts are accomplished through phased releases of ACE component functionality designed to replace specific legacy ACS functions or test new automated procedures. Each release will begin with a test and will end with mandatory use of the new ACE feature and, where applicable, the retirement of the corresponding legacy ACS function. Each release builds on previous releases and sets the foundation for subsequent releases.

The Automated Broker Interface (ABI) allows participants to electronically file required import data with CBP and transfers that data into ACE.

International Trade Data System

This test is in furtherance of the International Trade Data System (ITDS), which is authorized by section 405 of the Security and Accountability For Every Port Act of 2006 (SAFE Port Act, Pub. L. 109-347). The purpose of ITDS, as defined by section 405 of the SAFE Port Act, is to eliminate redundant information filing requirements, efficiently regulate the flow of commerce, and effectively enforce laws and regulations relating to international trade, by establishing a single portal system, operated by CBP, for the collection and distribution of standard electronic import and export data required by all participating Federal agencies.

II. Partner Government Agency Message Set

The Partner Government Agency (PGA) Message Set is the data needed to satisfy the PGA reporting requirements. For purposes of this test, the subject PGA is the Animal and Plant Health Inspection Service (APHIS). ACE enables the message set by acting as the “single window” for the submission of trade-related data required by the PGAs only once to CBP. This data must be submitted at any time prior to the arrival of the merchandise on the conveyance transporting the cargo to the United States as part of an ACE Entry/Cargo Release or Entry Summary. The data will be validated and made available to the relevant PGAs involved in import, export, and transportation-related decision making. The data will be used to fulfill merchandise entry and entry summary requirements. Also, by virtue of being electronic, the PGA Message Set will reduce the need for the submission and subsequent handling of paper documents. All PGA Message Set participants are required to use a software program that has completed ACE certification testing for the PGA Message Set.

Test participants may use the Document Imaging System (DIS) to electronically transmit the following forms and documents required by APHIS:

• APHIS 2006, U. S. Veterinary Biological Product Permit;

• APHIS VS 17-29, Declaration of Importation;

• APHIS VS 17-32, Application for Inspection and Dipping;

• Producers and Manufacturers Statements (sometimes called STATs); and

• Validation documentation, including all documents required to determine entry suitability, such as bills, packing lists, invoices, ingredients lists, and proofs of origin, among others.

For information regarding the use of DIS, and for updates to the list of PGA forms and documents which may be transmitted to ACE using DIS, please visit the DIS tab at: http://www.cbp.gov/trade/ace/features or the APHIS Web site at http://www.aphis.usda.gov/import-export/itds.

Upon initiation of this test, CBP will accept electronically for ACE processing data filed by test participants at specified ports through the ABI. The data elements required for ACE processing are the same as those currently submitted in ACS or provided using paper APHIS forms. These data elements are set forth in the supplemental Customs and Trade Automated Interface Requirements (CATAIR) guidelines for APHIS. These technical specifications, including the CATAIR chapters can be found online at http://www.cbp.gov/trade/ace/catair.

CBP intends to expand ACE to cover all entry types and will publish a notice in the Federal Register announcing the expansion. In addition, CBP will make the announcement on its Web site and will reach out to entry filers via the Cargo Systems Messaging Service (CSMS). Trade members may subscribe to CSMS to receive email notifications from CBP regarding important information. For information about subscribing to CSMS, please go to: http://apps.cbp.gov/csms/csms.asp?display_page=1.

Once CBP announces that ACE is required for all import entry types, parties in this test will be required to file some or all APHIS forms for all entry types at test operational ports using either ACE, ABI, or DIS, as designated on the CBP Web site. APHIS will still collect some paper documentation, such as phytosanitary certificates, and health certificates for live animals and animal products, due to Office of Management and Budget (OMB) requirements. Information about the ways in which data may be submitted is available on the CBP Web site at http://www.cbp.gov/document/guidance/ace-cargo-release-business-transformation-process-document. The entry filing at the pilot project ports will continue until the pilot project is completed or when participation is ended.

Participants should consult the CBP Web site to determine which ports are operational for the test and the date that they become operational: http://www.cbp.gov/document/guidance/list-aceitds-pga-message-set-pilot-ports. Test participants and interested parties should continue to consult the CBP Web site for changes to the list of ports that are operational for this test.

III. The APHIS Test

APHIS participation in this test will include selected forms and data required for admissibility determinations based on APHIS regulations. Under this test, APHIS required data will be transmitted electronically to ACE using the appropriate submission method. Information about this and other APHIS ITDS pilot projects can be found on the APHIS Web site at http://www.aphis.usda.gov/import-export/itds.

This test will cover all modes of transport at the selected port(s), and all plants, animals, and plant and animal products when imported at one of the selected ports.

The import filing process for APHIS will require the submission of specifically designated information. The core submission will include DIS and paper submission for certain items due to OMB requirements. The designated PGA Message Set will be used to collect specified information that is required by APHIS. The PGA Message Set data will be submitted to ACE system through the use of the ABI at the time of the entry filing in addition to the CBP required import Entry or Entry Summary data. Examples of the kind of data that will be submitted as part of the PGA Message set are: Importer name, port of arrival, country of origin, quantity, commodity name, scientific name, and permit numbers.

We will accept applications starting October 2, 2015 and will continue to accept applications throughout the duration of the test. Any party seeking to participate in this test must provide to APHIS, in its request to participate, the name of its organization, its point of contact for the pilot, and contact information (phone number and email address). Submit your request to participate in this test by sending an email to ace.itds@aphis.usda.gov. In the subject line, please indicate, “Request to Participate in APHIS PGA Message Set Test.” Participants must also contact their assigned CBP client representative to ensure readiness to participate in a pilot (see FOR FURTHER INFORMATION CONTACT above for instructions for contacting CBP if you do not have an assigned client representative). CBP will notify the selected applicants by an email message of their selection and the starting date of their participation. Selected participants may have different starting dates. Anyone providing incomplete information, or otherwise not meeting participation requirements, will be notified by an email message and given the opportunity to resubmit their application.

At this time, PGA Message Set data may be submitted only for entries filed at certain ports. A current listing of those ports may be found on the CBP Web site at http://www.cbp.gov/document/guidance/list-aceitds-pga-message-set-pilot-ports.

This test covers communication and coordination among the agencies and the filers of data through the PGA Message Set for the importation of plants, animals, and plant and animal products regulated by APHIS. Entry data submissions will be subject to validation edits and any applicable PGA business rules programmed into ACE. Once all of the PGAs have concluded their review of the shipment, issued a “May Proceed,” and have unset any remaining holds, CBP will send a single U.S. Government release message to the filer indicating that CBP has conditionally released the goods.

IV. Confidentiality

All data submitted and entered into ACE is subject to the Trade Secrets Act (18 U.S.C. 1905) and is considered confidential, except to the extent as otherwise provided by law. Participation in this test is not confidential and upon a written Freedom of Information Act request, the name(s) of an approved participant(s) will be disclosed by CBP in accordance with 5 U.S.C. 552.

Done in Washington, DC, this 28th day of September 2015.
Kevin Shea,
Administrator, Animal and Plant Health Inspection Service.

[FR Doc. 2015-25082 Filed 10-1-15; 8:45 am]

BILLING CODE 3410-34-P